INTER-AMERICAN FOUNDATION

Sunshine Act Meetings

TIME AND DATE: October 4, 2021, 11:30 a.m. ET.

PLACE: Via tele-conference.

STATUS: Parts of this meeting will be open to the public. The rest of the meeting will be closed to the Public.

MATTERS TO BE CONSIDERED:

Call to order

Vote on Interim President/CEO

Adjournment

Portions Open to the Public

Meeting of the IAF Board of Director

Portions Closed to the Public

Executive session closed to the public as provided for by 22 CFR 1004.4(b)

CONTACT PERSON FOR MORE INFORMATION: Aswathi Zachariah, General Counsel, (202) 683-7118.

For Dial-in Information Contact: Karen Vargas, Board Liaison, (202) 524-8869.

The Inter-American Foundation is holding this meeting under the Government in the Sunshine Act, 5 U.S.C. 552(b).

Aswathi Zachariah,
General Counsel.

[FR Doc. 2021-21930 Filed 10-4-21; 4:15 pm]

BILLING CODE 7025-01-P